DEPARTMENT OF ENERGY

Federal Energy Regulatory Commission

[Docket No. RP01-345-003]

Columbia Gas Transmission Corporation; Notice of Compliance Filing

August 8, 2001.

Take notice that on August 6, 2001, Columbia Gas Transmission Corporation (Columbia) tendered for filing as part of its FERC Gas Tariff, Second Revised Volume No. 1, Second Sub Tenth Revised Sheet No. 456, bearing a proposed effective date of May 1, 2001.

Columbia states that the instant filing is being made to comply with an Order issued by the Commission on July 25, 2001. On May 9, 2001 Columbia made a filing (filing) with the Commission to revise certain tariff sheets that it had filed previously to incorporate Version 1.4 of the consensus industry standards, promulgated by the Gas Industry Standards Board (GISB). The filing was accepted on July 25, 2001, subject to Columbia re-filing Sheet No. 456. In the May 9, 2001 filing, Columbia inadvertently made reference to Section 284.10 instead of Section 284.12. The tariff sheet in the instant filing is being made to correct this oversight.

Columbia states that copies of its filing have been mailed to all firm customers, interruptible customers, and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20335 Filed 8-13-01; 8:45 am]

BILLING CODE 6717-01-P